DEPARTMENT OF ENERGY

Federal Energy Regulatory Commission

Notice of Application Tendered for Filing With the Commission and Soliciting Additional Study Requests

June 3, 2004.

Take notice that the following hydroelectric application has been filed with the Commission and is available for public inspection.

a. Type of Application: Original major license under 5 megawatts (MW).

b. Project No.: P-11879-001.

c. Date filed: May 20, 2004.

d. Applicant: Symbiotics, LLC.

e. Name of Project: Chester Diversion Hydroelectric Project.

f. Location: On Henry's Fork of the Snake River, near the Town of Rexburg, in Fremont County, Idaho. The project would occupy 2-acres of U.S. Bureau of Reclamation (BOR) land.

g. Filed Pursuant to: Federal Power Act, 16 U.S.C. 791(a)-825(r).

h. Applicant Contact: Mr. Brent L. Smith, Northwest Power Services, Inc., P.O. Box 535, Rigby, ID 83442, (208) 745-0834 or Dr. Vincent A. Lamarra, Ecosystems Research Institute, 975 South State Highway, Logan, UT 84321, (435) 752-2580.

i. FERC Contact: Emily Carter at (202) 502-6512, or Emily.Carter@ferc.gov.

j. Cooperating agencies: We are asking Federal, State, local, and tribal agencies with jurisdiction and/or special expertise with respect to environmental issues, to cooperate with us in the preparation of the environmental document. Agencies who would like to request cooperating status should follow the instructions for filing comments described in item `l.' below.

k. Pursuant to Section 4.32(b)(7) of 18 CFR of the Commission's regulations, if any resource agency, Indian tribe, or person believes that an additional scientific study should be conducted in order to form an adequate factual basis for a complete analysis of the application on its merit, the resource agency, Indian tribe, or person must file a request for a study with the Commission not later than 60 days from the date of filing of the application, and serve a copy of the request on the applicant.

l. Deadline for filing additional study requests and requests for cooperating agency status: July 19, 2004.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests and requests for cooperating agency status may be filed electronically via the Internet in lieu of paper. The Commission strongly encourages electronic filings. See 18 CFR 385.2001(a)(1)(iii) and the instructions on the Commission's Web site (http://www.ferc.gov) under the “e-Filing” link. m. Status: The application is not ready for environmental analysis at this time. n. The proposed Chester Diversion Hydroelectric Project would utilize the existing BOR Chester Dam on the Henry's Fork of the Snake River. The dam has an overall structural height of 17 feet and a total length of 457 feet, spanning the river. Operation of the project would depend on flows in the Henry's Fork and would be dependant on the irrigation season. It would be operated run-of-river and no storage would occur at the project.

The proposed project would consist of the following facilities: (1) A new three-foot-high inflatable rubber dam bolted to the crest of the existing spillway; (2) a new 50-foot-wide concrete spillway; (3) two new Kaplan-type turbine generator units with a combined generating capacity of 3.3 MW; (4) a new low-profile powerhouse; and (5) appurtenant facilities.

The applicant estimates that the average annual generation would be about 16.8 gigawatthours.

o. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via email of new filings and issuances related to this or other pending projects. For assistance, contact FERC Online Support.

p. With this notice, we are initiating consultation with the Idaho State Historic Preservation Officer (SHPO), as required by § 106, National Historic Preservation Act, and the regulations of the Advisory Council on Historic Preservation, 36 CFR 800.4.

q. Procedural schedule: The application will be processed according to the following Hydro Licensing Schedule. Revisions to the schedule will be made if the Commission determines it necessary to do so.

Action | Tentative date
Issue Acceptance or Deficiency Letter | July 2004.
Request Additional Information | July 2004.
Issue Acceptance Letter (if necessary) | October 2004.
Issue Scoping Document 1 for comments | November 2004.
Hold Scoping Meetings | December 2004.
Request Additional Information (if necessary) | February 2005.
Issue Scoping Document 2 | February 2005.
Notice of Application Ready for Environmental Analysis | February 2005.
Notice of the availability of the draft EA | August 2005.
Initiate 10(j) process (if necessary) | October 2005.
Notice of the availability of the final EA | February 2005.
Ready for Commission decision on the application | May 2006.

Linda Mitry,
Acting Secretary.

[FR Doc. E4-1307 Filed 6-9-04; 8:45 am]

BILLING CODE 6717-01-P